DEPARTMENT OF ENERGY

Federal Energy Regulatory Commission

Combined Notice of Filings #1

Take notice that the Commission received the following electric corporate filings:

Docket Numbers: EC23-111-000.

Applicants: Idaho Power Company, PacifiCorp.

Description: Errata to July 20, 2023 Joint Application for Authorization Under Section 203 of the Federal Power Act of Idaho Power Company, et al.

Filed Date: 7/27/23.

Accession Number: 20230727-5177.

Comment Date: 5 p.m. ET 8/10/23.

Take notice that the Commission received the following electric rate filings:

Docket Numbers: ER10-1817-028; ER10-1818-035; ER10-1819-037; ER10-1820-040.

Applicants: Northern States Power Company, a Wisconsin corporation, Northern States Power Company, a Minnesota corporation, Public Service Company of Colorado, Southwestern Public Service Company.

Description: Notice of Change in Status of Southwestern Public Service Company, et al.

Filed Date: 7/27/23.

Accession Number: 20230727-5176.

Comment Date: 5 p.m. ET 8/17/23.

Docket Numbers: ER10-2381-014; ER11-2206-015; ER11-2207-015; ER11-2209-015; ER11-2210-015; ER11-2211-015; ER11-2855-029; ER11-2856-029; ER11-2857-029; ER11-3727-021; ER12-21-027; ER12-1711-021; ER13-1150-013; ER13-1151-013; ER13-1991-028; ER13-1992-028; ER17-1217-004; ER18-814-006; ER18-2033-003; ER19-672-006; ER19-843-006; ER19-1061-006; ER19-1063-006; ER19-1200-010; ER20-486-006; ER21-963-003; ER23-175-003; ER23-1577-001.

Applicants: Daggett Solar Power 2 LLC, Daggett Solar Power 3 LLC, Silverstrand Grid, LLC, Golden Fields Solar III, LLC, Clearway Power Marketing LLC, Solar Borrego I LLC, Solar Alpine LLC, Solar Blythe LLC, Marsh Landing LLC, Saavi Energy Solutions, LLC, Carlsbad Energy Center LLC, TotalEnergies Gas & Power North America, Inc., Desert Sunlight 300, LLC, Desert Sunlight 250, LLC, Alta Wind XI, LLC, Alta Wind X, LLC, High Plains Ranch II, LLC, Agua Caliente Solar, LLC, El Segundo Energy Center LLC, Sun City Project LLC, Sand Drag LLC, Avenal Park LLC, Alta Wind I, LLC, Alta Wind III, LLC, Alta Wind II, LLC, Alta Wind IV, LLC, Alta Wind V, LLC, Walnut Creek Energy, LLC.

Description: Notice of Change in Status of Walnut Creek Energy, LLC et al.

Filed Date: 7/26/23.

Accession Number: 20230726-5165.

Comment Date: 5 p.m. ET 8/16/23.

Docket Numbers: ER22-2339-001.

Applicants: Southwest Power Pool, Inc.

Description: Compliance filing: Second Order No. 881 Compliance Filing to Implement Transmission Line Ratings to be effective 7/12/2025.

Filed Date: 7/28/23.

Accession Number: 20230728-5041.

Comment Date: 5 p.m. ET 8/18/23.

Docket Numbers: ER22-2513-002.

Applicants: Deerfield Wind Energy 2, LLC.

Description: Notice of Non-Material Change in Status of Deerfield Wind Energy 2, LLC, et al.

Filed Date: 7/27/23.

Accession Number: 20230727-5175.

Comment Date: 5 p.m. ET 8/17/23.

Docket Numbers: ER23-921-001.

Applicants: Black Mesa Energy, LLC.

Description: Notice of Non-Material Change in Status of Black Mesa Energy, LLC, et al.

Filed Date: 7/27/23.

Accession Number: 20230727-5173.

Comment Date: 5 p.m. ET 8/17/23.

Docket Numbers: ER23-1826-001.

Applicants: Cross-Sound Cable Company, LLC.

Description: Tariff Amendment: Response to Request for Additional Information to be effective 7/4/2023.

Filed Date: 7/28/23.

Accession Number: 20230728-5079.

Comment Date: 5 p.m. ET 8/18/23.

Docket Numbers: ER23-2501-000.

Applicants: MD Solar 2, LLC.

Description: Tariff Amendment: Notice of Cancellation and Withdrawal of Rate Schedule to be effective 7/28/2023.

Filed Date: 7/27/23.

Accession Number: 20230727-5142.

Comment Date: 5 p.m. ET 8/17/23.

Docket Numbers: ER23-2502-000.

Applicants: Public Service Company of Colorado.

Description: § 205(d) Rate Filing: 2023-07-28—Cypress Creek Renewables—APSISA-738-0.0.0 to be effective 7/29/2023.

Filed Date: 7/28/23.

Accession Number: 20230728-5038.

Comment Date: 5 p.m. ET 8/18/23.

Docket Numbers: ER23-2503-000.

Applicants: PJM Interconnection, L.L.C.

Description: § 205(d) Rate Filing: Original ISA and ICSA, SA Nos. 6965 and 6966; Queue No. AF2-130 to be effective 6/28/2023.

Filed Date: 7/28/23.

Accession Number: 20230728-5062.

Comment Date: 5 p.m. ET 8/18/23.

Docket Numbers: ER23-2504-000.

Applicants: Duke Energy Progress, LLC.

Description: Tariff Amendment: DEP-Lumberton—Termination of SA No. 205 to be effective 9/30/2023.

Filed Date: 7/28/23.

Accession Number: 20230728-5069.

Comment Date: 5 p.m. ET 8/18/23.

Docket Numbers: ER23-2505-000.

Applicants: California Independent System Operator Corporation.

Description: § 205(d) Rate Filing: 2023-07-28 Amendment to Remove Submission Deadline Revisions to be effective 10/1/2023.

Filed Date: 7/28/23.

Accession Number: 20230728-5095.

Comment Date: 5 p.m. ET 8/18/23.

Docket Numbers: ER23-2506-000.

Applicants: Duke Energy Florida, LLC.

Description: § 205(d) Rate Filing: DEF-FMPA,FMPP and Orlando CoGen Reimbursement Agmt RS No. 420 to be effective 10/1/2023.

Filed Date: 7/28/23.

Accession Number: 20230728-5129.

Comment Date: 5 p.m. ET 8/18/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: July 28, 2023.
Debbie-Anne A. Reese,
Deputy Secretary.

[FR Doc. 2023-16558 Filed 8-2-23; 8:45 am]

BILLING CODE 6717-01-P